DEPARTMENT OF JUSTICE

[AAG/A Order No. 013-2007]

National Security Division; Privacy Act of 1974; System of Records

AGENCY: National Security Division, Department of Justice.

ACTION: Notice of new system of records.

SUMMARY: This system of records, formerly entitled CRM-017, “Registration and Propaganda Files Under the Foreign Agents Registration Act of 1938, as amended,” was last published in the Federal Register on May 11, 1988 (53 FR 16794). It is being revised and renamed as a new system of records under the newly created National Security Division (NSD) in the Department of Justice: JUSTICE/NSD-002,”Registration and Informational Material Files Under the Foreign Agents Registration Act of 1938.” The Department hereby removes, on the effective date of this notice, the former notice of CRM-017.

DATES: In accordance with the requirements of 5 U.S.C. 552a(e)(4) and (11), the public is given a 30-day period in which to comment. The Office of Management and Budget (OMB) which has oversight responsibility under the Act, has 40 days in which to conclude its review of the system. Therefore, please submit any comments by June 18, 2007.

ADDRESSES: The public, OMB, and the Congress are invited to submit any comments to Mary E. Cahill, Management and Planning Staff, Justice Management Division, Department of Justice, Washington, DC 20530 (Room 1400, National Place Building), facsimile number 202-307-1853.

FOR FURTHER INFORMATION CONTACT: Heather Hunt, (202) 514-1216.

SUPPLEMENTARY INFORMATION: The National Security Division (NSD) was created by section 506 of the USA PATRIOT Improvement and Reauthorization Act of 2005, by consolidating the resources of the Justice Department's three primary national security components: The Office of Intelligence Policy and Review and the Criminal Division's Counterterrorism and Counterespionage Sections. On March 7, 2007, the NSD published in the Federal Register, at 72 FR 10064, a final rule to amend title 28 of the Code of Federal Regulations (CFR) to reflect the establishment of the NSD and its mission and functions. The rule also made necessary amendments to the CFR to effect the changes necessary in the functions of the former Office of Intelligence and Policy Review and functions of the Criminal Division that are transferring to NSD.

In accordance with 5 U.S.C. 552a(r), the Department has provided a report to OMB and the Congress.

Dated: April 27, 2007.
Lee J. Lofthus,
Assistant Attorney General for Administration.

JUSTICE/NSD-002

SYSTEM NAME:

Registration and Informational Material Files Under the Foreign Agents Registration Act of 1938.

SECURITY CLASSIFICATION:

Sensitive but Unclassified.

SYSTEM LOCATION:

U.S. Department of Justice; National Security Division; 950 Pennsylvania Ave., NW., Washington, DC 20530.

CATEGORIES OF INDIVIDUALS COVERED BY THE SYSTEM:

Persons who have registered under the Foreign Agents Registration Act of 1938, as amended, (FARA), 22 U.S.C. 611 et seq., and persons referenced in correspondence or other files related to FARA.

CATEGORIES OF RECORDS IN THE SYSTEM:

(1) Automated alphabetical indices which include summary data such as registrant names, file numbers, dates of registration, and a synopsis of activities performed for a given foreign principal; and (2) file folders which contain copies of all registration statements and statements concerning the distribution of informational materials furnished under FARA.

Other records related to subject matters described in this system may include related correspondence, inspection and/or investigative reports, and/or statements of any agent of a foreign principal whose activities have ceased to be of a character which requires registration under FARA.

AUTHORITY FOR MAINTENANCE OF THE SYSTEM:

This system is established and maintained pursuant to 22 U.S.C. 611 et seq. The system is also maintained to implement the provisions of 28 CFR 0.72 and 28 CFR Part 5.

PURPOSE OF THE SYSTEM:

The system is maintained to enable the Registration Unit, Counterespionage Section, National Security Division, to implement the various provisions of the Foreign Agents Registration Act of 1938, as amended, 22 U.S.C. 611 et seq. The system provides for the public examination of the registration statements filed by foreign agents engaged in activities for or on behalf of foreign governments, foreign political parties, or other foreign principals. Public examination helps to insure that the U.S. Government and the people of the United States are informed of the source of information and the identity of persons attempting to influence U.S. public opinion, policy, and laws.

As prescribed by 22 U.S.C. 616(a), (b), and (c), the records in this system that are public records are open to public examination and inspection and copies of the same shall be furnished to every applicant at fees prescribed by 28 CFR 5.601. One copy of every registration statement filed under FARA and one copy of every amendment or supplement thereto filed under FARA shall be forwarded to the Secretary of State for such comment and use as the Secretary of State may determine to be appropriate from the point of view of the foreign relations of the United States.

Public information obtained under FARA, including the names of registrants, copies of registration statements, or parts thereof, copies of informational materials, or other documents or information filed under FARA, may be furnished to departments and agencies in the executive branch and committees of the Congress.

Other records related to the subject matters described in this system that are not available for public examination may be disclosed as follows.

ROUTINE USES OF RECORDS MAINTAINED IN THE SYSTEM, INCLUDING CATEGORIES OF USERS AND THE PURPOSES OF SUCH USES:

To a Member of Congress or staff acting upon the Member's behalf when the Member or staff requests the information on behalf of, and at the request of, the individual who is the subject of the record.

To contractors, grantees, experts, consultants, students, and others performing or working on a contract, service, grant, cooperative agreement, or other assignment for the Federal Government, when necessary to accomplish an agency function related to this system of records.

Where a record, either alone or in conjunction with other information, indicates a violation or potential violation of law—criminal, civil, or regulatory in nature—the relevant records may be referred to the appropriate federal, state, local, tribal, or foreign law enforcement authority or other appropriate entity charged with the responsibility for investigating or prosecuting such violation or charged with enforcing or implementing such law.

To appropriate officials and employees of a federal agency or entity which requires information relevant to a decision concerning the hiring, appointment, or retention of an employee; the issuance, renewal, suspension, or revocation of a security clearance; the execution of a security or suitability investigation; the letting of a contract; or the issuance of a grant or benefit.

A record may be disclosed to designated officers and employees of state, local (including the District of Columbia), or tribal law enforcement or detention agencies in connection with the hiring or continued employment of an employee or contractor, where the employee or contractor would occupy or occupies a position of public trust as a law enforcement officer or detention officer having direct contact with the public or with prisoners or detainees, to the extent that the information is relevant and necessary to the recipient agency's decision.

In an appropriate proceeding before a court, or administrative or adjudicative body, when the Department of Justice determines that the records are arguably relevant to the proceeding; or in an appropriate proceeding before an administrative or adjudicative body when the adjudicator determines the records to be relevant to the proceeding.

To an actual or potential party to litigation or the party's authorized representative for the purpose of negotiation or discussion of such matters as settlement, plea bargaining, or in informal discovery proceedings.

To the news media and the public, including disclosures pursuant to 28 CFR 50.2, unless it is determined that release of the specific information in the context of a particular case would constitute an unwarranted invasion of personal privacy.

To Federal, state, local, tribal, foreign, or international licensing agencies or associations which require information concerning the suitability or eligibility of an individual for a license or permit.

To the National Archives and Records Administration for purposes of records management inspections conducted under the authority of 44 U.S.C. 2904 and 2906.

To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

To such recipients and under such circumstances and procedures as are mandated by federal statute or treaty.

To complainants and/or victims to the extent necessary to provide such persons with information and explanations concerning the progress and/or results of the investigation or case arising from the matters of which they complained and/or of which they were a victim.

To appropriate agencies, entities, and persons when (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

To any person or entity that the Registration Unit, Counterespionage Section, National Security Division has reason to believe possesses information regarding a matter within the jurisdiction of the Registration Unit, Counterespionage Section, National Security Division, to the extent deemed to be necessary by the Registration Unit, Counterespionage Section, National Security Division in order to elicit such information or cooperation from the recipient for use in the performance of an authorized activity.

DISCLOSURE TO CONSUMER REPORTING AGENCIES:

Not applicable

POLICIES AND PRACTICES FOR STORING, RETRIEVING, ACCESSING, RETAINING, AND DISPOSING OF RECORDS IN THE SYSTEM:

STORAGE:

Records in this system are stored on paper, and/or in electronic form. Records are stored in accordance with applicable executive orders, statutes, and agency implementing regulations. Paper records contained in this system are stored manually on index cards and in file jackets; selected summary data, e.g., name and address of registrant, name of foreign principal, description of activities, and amount of money received, are stored on magnetic disks.

RETRIEVABILITY:

Information and summary data is retrieved by registrant name. Summary data includes: Name and address of registrant, name of foreign principal, description of activities, amount of money received, and promotional material disseminated.

SAFEGUARDS:

Some records in this system have been designated as public records by 22 U.S.C. 616. All other records in this system are safeguarded in accordance with applicable laws, rules, and policies, including the Department's automated systems security and access policies. Records and technical equipment are maintained in a secured area with restricted access. The required use of password protection identification features and other system protection methods also restrict access.

RETENTION AND DISPOSAL:

Records are retained and disposed of in accordance with a schedule approved by the National Archives and Records Administration.

SYSTEM MANAGER(S) AND ADDRESS:

Chief, Foreign Agents Registration Unit, Counterespionage Section, National Security Division, U.S. Department of Justice, 950 Pennsylvania Ave., NW., Washington, DC 20530.

NOTIFICATION PROCEDURE:

Same as the Above.

RECORD ACCESS PROCEDURES:

A request for access to a record from this system shall be made pursuant to the provisions of 28 CFR 5.600 and 5.601.

CONTESTING RECORD PROCEDURES:

Individuals desiring to contest or amend information maintained in the system should direct their request to the System Manager listed above, stating clearly and concisely what information is being contested, the reasons for contesting it, and the proposed amendment to the information sought.

RECORD SOURCE CATEGORIES:

The source of information contained in this system is the registrant.

EXEMPTIONS CLAIMED FOR THE SYSTEM:

None.

[FR Doc. E7-8765 Filed 5-7-07; 8:45 am]

BILLING CODE 4410-14-P